DEPARTMENT OF TRANSPORTATION

Office of the Secretary

[Docket No. OST-2003-15660]

Notice of Request for Renewal of a Previously Approved Collection

AGENCY: Office of the Secretary (OST), DOT.

ACTION: Notice.

SUMMARY: In accordance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register notice with a 60-day comment period soliciting comments on the following collection of information was published on July 21, 2003 (FR Vol 68, No. 139, page 43,250). No comments were received.

DATES: Comments on this notice must be received by November 10, 2003.

ADDRESSES: You may submit comments identified by DOT DMS Docket Number OST 2003-15660 by the following methods:

• Web Site: http://dms.dot.gov. Follow the instruction for submitting comments on the DOT electronic docket site.

• Fax 1-202-493-2251.

• Mail: Docket Management Facility; U.S. Department of Transportation, 400 Seventh Street, SW., Nassif Building, Room PL-40, Washington, DC 20590-001.

• Hand Delivery: Room PL-401, on Plaza Level of the Nassif Building, 400 Seventh Street, SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the SUPPLEMENTARY INFORMATION section of this document. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, between 9 a.m. and 5 p.m., Monday through Friday, except Federal holidays.

FOR FURTHER INFORMATION CONTACT: Mr. Luther Dietrich, Office of the Secretary, Office of Aviation Analysis, X-53, Department of Transportation, 400 Seventh Street, SW., Washington, DC 20590, (202) 366-1046.

SUPPLEMENTARY INFORMATION: Title: Air Carrier's Claim for Subsidy and Air Carrier's Report of Departures Flown in Scheduled Service.

OMB Control Number: 2106-0044.

Affected Public: Small air carriers selected by the Department in docketed cases to provide subsidized essential air service.

Annual Estimated Burden: 4,176 hours.

Abstract: In 14 CFR part 271 of its Aviation Economic Regulations, the Department provided that subsidy to air carriers for providing essential air service will be paid to the carriers monthly, and that payments will vary according to the actual amount of service performed during the month. The reports of subsidized air carriers of essential air service performed on the Department's Forms 397, “Air Carrier's Report of Departures Flown in Scheduled Service” and 398, “Air Carrier's Claim for Subsidy,” establish the fundamental basis for paying these air carriers on a timely basis. Typically, subsidized air carriers are small businesses and operate only aircraft of limited size over a limited geographical area. The collection permits subsidized air carriers to submit their monthly claims in a concise, orderly, easy-to-process form, without having to devise their own means of submitting support for these claims.

The collection involved here requests only information concerning the subsidy-eligible flights (which generally constitute only a small percentage of the carriers' total operations) of a small number of air carriers. The collection permits the Department to timely pay air carriers for providing essential air service to certain eligible communities that would not otherwise receive scheduled passenger air service.

Comments are invited on: (a) Whether the proposed collection of information is necessary for the proper functioning of the Department, including whether the information will have practical utility; (b) the accuracy of the Department's estimate of the burden of the proposed information collection; (c) ways to enhance the quality, utility, and clarity of the information to be collected; and (d) ways to minimize the burden of the collection of information on respondents, including the use of automated collection techniques or other forms of information technology.

All responses to this notice will be summarized and included in the request for OMB approval. All comments will also become a matter of public record.

Issued in Washington, DC, on October 3, 2003.
Michael Robinson,
Information Technology Program Management, Department of Transportation.

[FR Doc. 03-25656 Filed 10-9-03; 8:45 am]

BILLING CODE 4910-62-P